DEPARTMENT OF TRANSPORTATION

Federal Aviation Administration

Waiver of Aeronautical Land-Use Assurance: Outagamie County Regional Airport (ATW), Appleton, WI

AGENCY: Federal Aviation Administration, DOT.

ACTION: Notice of intent of waiver with respect to land.

SUMMARY: The Federal Aviation Administration (FAA) is considering a proposal from Outagamie County Regional Airport (Sponsor), Appleton, WI, to release a 77.5-acre parcel of land from the federal obligation dedicating it to aeronautical use and to authorize this parcel to be used for revenue-producing, nonaeronautical purposes.

DATES: Comments must be received on or before February 27, 2013.

ADDRESSES: Mr. Daniel J. Millenacker, Program Manager, Federal Aviation Administration, Airports District Office, 6020 28th Avenue South, Room 102, Minneapolis, MN 55450-2706. Telephone Number (612) 253-4635; FAX Number (612) 253-4611; email address Daniel.J.Millenacker@FAA.GOV. Documents reflecting this FAA action may be reviewed at the following locations: Federal Aviation Administration, Minneapolis Airports District Office, 6020 28th Avenue South, Room 102, Minneapolis, MN 55450-2706; or Office of Airport Director, Outagamie County Regional Airport, W6390 Challenger Drive, Suite 201, Appleton, WI 54914.

FOR FURTHER INFORMATION CONTACT: Mr. Daniel J. Millenacker, Program Manager, Federal Aviation Administration, Airports District Office, 6020 28th Avenue South, Room 102, Minneapolis, MN 55450-2706. Telephone Number (612) 253-4635; FAX Number (612) 253-4611; email address Daniel.J.Millenacker@FAA.GOV.

SUPPLEMENTARY INFORMATION: The parcel of land is located along the southern boundary of Outagamie County Regional Airport. The parcel will be used for construction and operation of a Public Safety Training Center (PSTC) by the Fox Valley Technical College (FVTC). The PSTC is an educational campus intended to provide degree/diploma/certificate programs to students enrolled in public safety disciplines including fire protection, law enforcement, and emergency medical services.

No airport landside or airside facilities are presently located on this parcel nor is airport development contemplated in the future. Development of the parcel for airside or landside operations is largely restricted due to significant grade differences which exist on the land surface. Current use of the surface of the parcel is for agricultural purposes. The parcel presently serves the primary purpose of protecting airport aeronautical (imaginary) surfaces. The parcel will continue to serve in this same capacity with a proposed change to nonaeronautical, revenue-producing use from its present aeronautical use designation.

The parcel is depicted on the Airport Layout Plan (ALP) dated January 13, 1993, and the Exhibit “A” property map. This parcel, as shown on the ALP, is not needed for aeronautical use. There are no impacts to the airport by allowing it to waive the requirement to maintain the parcel as aeronautical use.

Of the 77.5 acres, approximately 74.5 acres were originally purchased with sponsor funds. The remaining acres were acquired under a larger land acquisition grant, Airport Improvement Program (AIP) Grant No. 3-55-0002-30-06.

A fair market value (FMV) appraisal for the parcel was completed in 2011 in accordance with FAA Order 5100.37A. The appraisal concluded that the FMV for acquisition of the parcel was $1,369,000. A standard capitalization rate was applied to the FMV to establish a base annual rent to be paid by FVTC for use of the parcel. A lease agreement established by the airport sponsor defines leasehold terms and conditions. The airport sponsor understands that rent and all other revenue that it collects in connection with the PSTC campus will be considered airport revenue and used in accordance with 49 U.S.C. Sections 47107 and 47133; FAA's Policy and Procedures on the Use of Airport Revenue; and FAA Order 51960.6B titled, “Airport Compliance Manual.” The annual income from rent payment will generate a long-term, revenue-producing stream that will further the Sponsor's obligation under FAA Grant Assurance No. 24 to make the airport as financially self-sufficient as possible.

The sponsor will control FVTC's use of the parcel through the terms and conditions of the ground lease. The lease will be subordinate to the sponsor's existing grant assurances. This will ensure that all activities contemplated on the parcel will be compatible with FAA requirements and airport operations.

An environmental assessment addressing proposed development of the parcel was prepared. A Federal Finding of No Significant Impact was issued by FAA on Dec. 28, 2012.

In accordance with section 47107(h) of title 49, United States Code, this notice is required to be published in the Federal Register 30 days before modifying the land-use assurance that requires the property to be used for an aeronautical purpose.

Following is a legal description of the subject airport property at the Outagamie County Regional Airport in Appleton, WI:

A parcel of land being a part of the Southeast Quarter of the Southeast Quarter of Section 35, the Northwest Quarter of the Southwest Quarter, the Southwest Quarter of the Southwest Quarter and the Southeast Quarter of the Southwest Quarter of Section 36, T21N, R16E, Town of Greenville, Outagamie County, Wisconsin more fully described as follows:

Commencing at the South Quarter Corner of Section 36; Thence S89°57′00″ W coincident with the South line of the Southwest Quarter of Section 36 a distance of 470.22 feet; Thence N00°51′03″ E a distance of 49.14 feet to the South right-of-way line of CTH BB also being the point of beginning. Thence S89°50′39″ W coincident with said South right-of-way line a distance of 1,098.47 feet; Thence S89°53′16″ W coincident with said South right-of-way line a distance of 1,348.82 feet; Thence N00°08′45″ W a distance of 206.41 feet; Thence N90°00′00″ E a distance of 30.49 feet; Thence N33°46′32″ E a distance of 80.71 feet; Thence N30°09′12″ E a distance of 99.92 feet; Thence N33°41′24″ W a distance of 10.70 feet; Thence S85°14′11″ W a distance of 71.45 feet; Thence S78°41′24″ W a distance of 75.64 feet; Thence N85°54′52″ W a distance of 83.28 feet; Thence N59°02′10″ W a distance of 17.30 feet; Thence N40°48′54″ E a distance of 86.24 feet; Thence N27°48′05″ E a distance of 553.39 feet; Thence N24°30′26″ E a distance of 443.43 feet; Thence N05° 11′40″ E a distance of 163.84 feet; Thence N29°07′17″ E a distance of 322.87 feet; Thence S63°52′35″ E a distance of 1,706.63 feet; Thence N89°51′06″ E a distance of 803.81 feet to the West right-of-way line of Two Mile Road; Thence S00°51′03″ W coincident with said West right-of-way line a distance of 590.25 feet to the North line of Lot 1, Outagamie County CSM No. 1190; Thence S89°57′16″ W coincident with said North line a distance of 420.00 feet to the West line of said Lot 1, Outagamie County CSM No. 1190; Thence S00°51′03″ W coincident with said West line a distance of 420.89 feet to the point of beginning.

Said parcel of land contains 77.5 Acres (3,376,192 Square Feet) more or less.

Subject to all easements and restrictions of record.

Issued in Minneapolis, MN, on December 31, 2012.
Daniel J. Millenacker,
Acting Manager, Minneapolis Airports District Office, FAA, Great Lakes Region.

[FR Doc. 2013-01670 Filed 1-23-13; 4:15 pm]

BILLING CODE 4910-13-P